NUCLEAR REGULATORY COMMISSION

Advisory Committee on Reactor Safeguards; Joint Meeting of the ACRS Subcommittees on Materials and Metallurgy, Thermal-Hydraulic Phenomena, and Reliability and Probabilistic Risk Assessment; Cancellation

The joint meeting of the ACRS Subcommittees on Materials and Metallurgy, Thermal-Hydraulic Phenomena, and Reliability and Probabilistic Risk Assessment scheduled for May 25, 2001, Room T-2B3, 11545 Rockville Pike, Rockville, Maryland has been canceled. Notice of this meeting was previously published in the Federal Register on Tuesday, May 8, 2001 (66 FR 23280).

FOR FURTHER INFORMATION CONTACT: Mr. Michael T. Markley cognizant ACRS staff engineer, (telephone 301/415-6885) between 7:30 a.m. and 4:15 p.m. (EDT).

Dated: May 10, 2001.
James E. Lyons,
Associate Director for Technical Support, ACRS/ACNW.

[FR Doc. 01-12337 Filed 5-15-01; 8:45 am]

BILLING CODE 7590-01-P